DEPARTMENT OF JUSTICE

Office of Justice Programs

Agency Information Collection Activities: Proposed Collection; Comment Request

ACTION: Reinstatement, with change, of a previously approved collection for which approval has expired; National Survey of Prosecutors.

The Bureau of Justice Statistics, Office of Justice Programs, United States Department of Justice, has submitted the following information collection request for review and clearance in accordance with the Paperwork Reduction Act of 1995. Office of management and Budget (OMB) approval is being sought for the information collection listed below. This proposed information collection was previously published in the Federal Register on September 5, 2000, Vol. 65, page 53751, allowing for a 60 days for public comment.

The purpose of this notice is to allow an additional 30 days for public comments until December 26, 2000. This process is conducted in accordance with 5 CFR 1320, 10.

Written comments and/or suggestions regarding the item(s) contained in this notice, especially regarding the estimated public burden and associated response time, should be directed to the Office of Management and Budget, Office of Information and Regulatory Affairs, Attention: Department of Justice Desk Officer, Washington, DC 20530. Comments may also be submitted to the Department of Justice (DOJ), Justice management Division, Information Management and Security Staff, Attention: Department Deputy Clearance Office, Suite 1220, 1331 Pennsylvania Avenue, NW, Washington, DC 20530.

Written comments and/or suggestions from the public and affected agencies concerning the proposed collection of information should address one or more of the following four:

(1) Evaluate whether the proposed collection of information is necessary for the proper performance of the functions of the agency/component, including whether the information will have practical utility;

(2) Evaluate the accuracy of the agency's/component's estimate of the burden of the collection of information including the validity of the methodology and assumptions used;

(3) Enhance the quality, utility, and clarity of the information to be collected; and

(4) Minimize the burden of the collection of information on those who are to respond, including through the use of appropriate automated electronic, mechanical, or other technological collection techniques or other forms of information technology, e.g., permitting electronic submission of responses.

Overview of this information:

(1) Type of information collection: Reinstatement, with change, of a previously approved collection for which approval has expired.

(2) The title of the form/collection: 2000 National Survey of Prosecutors.

(3) The agency form number, if any, and the applicable component of the Department sponsoring the collection: The form number are NSP-5L and NSP-5S, Bureau of Justice Statistics, United States Department of Justice.

(4) Affected public who will be asked or required to respond, as well as a brief abstract: Primary: State, Local or Tribal Government.

(5) An estimate of the total number of respondents and the amount of time estimated for an average respondent to respond/reply: It is estimated that 300 respondents will complete a 30 minute survey form NSP-5L, and 2100 respondents will complete a 20 minute survey from NSP-5S.

(6) An estimate of the total public burden (in hours) associated with the collection: the total hour burden to complete the survey is 850 annual burden hours.

If additional information is required, contact: Mrs. Brenda E. Dyer, Deputy Clearance Officer, United States Department of Justice, Information Management and Security Staff, Justice Management Division, Suite 1220, National Place, 1331 Pennsylvania Avenue, NW, Washington, DC 20530.

Dated: November 16, 2000.
Brenda E. Dyer,
Department Deputy Clearance Officer, Department of Justice.

[FR Doc. 00-29849 Filed 11-22-00; 8:45 am]

BILLING CODE 4410-18-M